DEPARTMENT OF JUSTICE

Bureau of Alcohol, Tobacco, Firearms and Explosives

[OMB 1140-0052]

Agency Information Collection Activities; Proposed eCollection of eComments Requested; Extension With Change of a Currently Approved Collection; ATF's Office of Strategic Management Environmental Assessment Outreach

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed information collection (IC) OMB 1140-0052 (ATF's Office of Strategic Management Environmental Assessment Outreach) is being updated to include a short purpose statement. The proposed information collection is also being published to obtain comments from the public and affected agencies.

DATES: Comments are encouraged and will be accepted for 60 days until March 22, 2022.

FOR FURTHER INFORMATION CONTACT: If you have additional comments regarding the estimated public burden or associated response time, suggestions, or need a copy of the proposed information collection instrument with instructions, or additional information, contact: Chad Yoder, Office of Strategic Management, Director's Office, by mail at 99 New York Ave. NE, Washington, DC 20226, email at Chad.Yoder@atf.gov, or telephone at 202-407-1746.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Extension with Change of a Currently Approved Collection.

2. The Title of the Form/Collection: ATF's Office of Strategic Management Environmental Assessment Outreach.

3. The agency form number, if any, and the applicable component of the Department sponsoring the collection:

Form number (if applicable): None.

Component: Bureau of Alcohol, Tobacco, Firearms and Explosives, U.S. Department of Justice.

4. Affected public who will be asked or required to respond, as well as a brief abstract:

Primary: Business or other for-profit.

Other (if applicable): Not-for-profit institutions, Federal Government, State, Local, or Tribal Government.

Abstract: ATF's Office of Strategic Management Environmental Assessment Outreach is distributed to Bureau of Alcohol, Tobacco, Firearms, and Explosives stakeholders to solicit feedback about the agency's internal strengths, weaknesses, and external opportunities.

5. An estimate of the total number of respondents and the amount of time estimated for an average respondent to respond: An estimated 1,500 respondents will respond to this collection once annually, and it will take each respondent approximately 18 minutes to complete their responses.

6. An estimate of the total public burden (in hours) associated with the collection: The estimated annual public burden associated with this collection is 450 hours, which is equal to 1,500 (total respondents) * 1 (# of response per respondent) * .3 (18 minutes or the time taken to prepare each response).

If additional information is required contact: Melody Braswell, Department Clearance Officer, United States Department of Justice, Justice Management Division, Policy and Planning Staff, Two Constitution Square, 145 N Street NE, Mail Stop 3.E-405A, Washington, DC 20530.

Dated: January 14, 2022.
Melody Braswell,
Department Clearance Officer for PRA, U.S. Department of Justice.

[FR Doc. 2022-01104 Filed 1-20-22; 8:45 am]

BILLING CODE 4410-FY-P